NATIONAL AERONAUTICS AND SPACE ADMINISTRATION

[Notice (15-114)]

Privacy Act of 1974; Privacy Act System of Records

AGENCY: National Aeronautics and Space Administration (NASA).

ACTION: Notice of proposed revisions to an existing Privacy Act system of records.

SUMMARY: Pursuant to the provisions of the Privacy Act of 1974 (5 U.S.C. 552a), the National Aeronautics and Space Administration is issuing public notice of its proposal to modify a previously noticed system of records as set forth below under the caption SUPPLEMENTARY INFORMATION.

DATES: Submit comments within 30 calendar days from the date of this publication. The changes will take effect at the end of that period, if no adverse comments are received.

ADDRESSES: Patti F. Stockman, Privacy Act Officer, Office of the Chief Information Officer, National Aeronautics and Space Administration Headquarters, Washington, DC 20546-0001, (202) 358-4787, NASAPAOfficer@nasa.gov.

FOR FURTHER INFORMATION CONTACT: NASA Privacy Act Officer, Patti F. Stockman, (202) 358-4787, NASAPAOfficer@nasa.gov.

SUPPLEMENTARY INFORMATION: Pursuant to the provisions of the Privacy Act of 1974, 5 U.S.C. 552a, and as part of its biennial System of Records review, NASA proposes to modify its existing Standards of Conduct Counseling system of records. Specifically, the existing system of records, Standards of Conduct Counseling Case Files/NASA 10SCCF, is being modified to add a word to the SORN title, making it “Ethics Standards of Conduct Counseling Case Files;” clarify the Categories of Individuals on whom records are maintained; correct an Authority citation; add a Purpose section; update the System Manager and Safeguards sections; and provide minor refinements of Routine Uses and Retention and Disposal sections.

Renee P. Wynn,
NASA Chief Information Officer.

NASA 10SCCF (11-094, 76 FR 64115-64122)

SYSTEM NAME:

Ethics Standards of Conduct Counseling Case Files.

SECURITY CLASSIFICATION:

None.

SYSTEM LOCATION:

Locations 1 through 11 inclusive, and Location 18, as set forth in Appendix A.

CATEGORIES OF INDIVIDUALS COVERED BY THE SYSTEM:

This system maintains information on current, former, and prospective NASA employees who have sought advice or have been counseled regarding conflict of interest rules and other Government ethics requirements for Federal employees.

CATEGORIES OF RECORDS IN THE SYSTEM:

Depending upon the nature of the problem, information collected may include employment history, financial data, and information concerning family members.

AUTHORITY FOR MAINTENANCE OF THE SYSTEM:

51 U.S.C. 20113(a); 44 U.S.C. 3101; 18 U.S.C. 201, 203, 205, 207-209; 5 U.S.C. 7324-7327; 5 U.S.C. Appendix; 14 CFR part 1207; 5 CFR parts 2634-2641; 5 CFR part 6901; and Executive Order 12674, as modified by Executive Order 12731.

PURPOSE:

Records in this system are used to enable ethics officials to render advice and legal determinations to NASA employees and detailees to assure compliance with these acts and to preserve and promote the integrity of public officials and institutions.

ROUTINE USES OF RECORDS MAINTAINED IN THE SYSTEM, INCLUDING CATEGORIES OF USERS AND THE PURPOSE OF SUCH USES:

Any disclosures of information will be compatible with the purpose for which the Agency collected the information. Information from these records may be disclosed: (1) To the Office of Personnel Management, Office of Government Ethics, and Merit Systems Protection Board for investigation of possible violations of standards of conduct which the agencies directly oversee; and (2) in accordance with NASA standard routine uses for all of NASA's systems of records as set forth in Appendix B.

POLICIES AND PRACTICES FOR STORING, RETRIEVING, ACCESSING, RETAINING, AND DISPOSING OF RECORDS IN THE SYSTEM:

STORAGE:

Records in this system are maintained in paper form in loose-leaf binders or file folders, and in electronic media, including NASA's Ethics Program Tracking System (EPTS).

RETRIEVABILITY:

Records are retrieved from the system by name of individual.

SAFEGUARDS:

Non-electronic records are secured in locked rooms or locked file cabinets to which only persons authorized by the General Counsel, Agency Counsel for Ethics, or Center Chief Counsel have access. Electronic records are maintained on secure NASA servers and protected in accordance with all Federal standards and those established in NASA regulations at 14 CFR 1212.605 and applicable NASA policy. Additionally, the Agency employs infrastructure encryption technologies in data transmission between servers and data management environments therein.

RETENTION AND DISPOSAL:

Records are maintained in Agency files and destroyed in accordance with NASA Records Retention Schedules, Schedule 1, Item 133.

SYSTEM MANAGERS AND ADDRESSES:

System Manager: Agency Counsel for Ethics, General Law Practice Group, Location 1. Sub-system Managers: Chief Counsel, Locations 2 through 11, and Counsel to the Executive Director, Location 18, as set forth in Appendix A.

NOTIFICATION PROCEDURE:

Information may be obtained from the System Manager.

RECORD ACCESS PROCEDURE:

Requests from individuals should be addressed to the System Manager and must include employee's full name and NASA Center where employed.

CONTESTING RECORD PROCEDURES:

The NASA regulations and procedures for access to records and for contesting contents and appealing initial determinations by the individual concerned appear at 14 CFR part 1212.

RECORD SOURCE CATEGORIES:

Information collected directly from individual and from his/her official employment record.

[FR Doc. 2015-30865 Filed 12-7-15; 8:45 am]

BILLING CODE 7510-13-P